DEPARTMENT OF HOUSING AND URBAN DEVELOPMENT

[Docket No. FR-5915-N-13]

60-Day Notice of Proposed Information Collection: Improving the Speed of Housing Recovery Program Launch After Severe Disasters

AGENCY: Office of Policy Development and Research, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: January 3, 2017.

ADDRESSES: Interested persons are invited to submit comments regarding this proposal. Comments should refer to the proposal by name and/or OMB Control Number and should be sent to: Anna P. Guido, Reports Management Officer, QDAM, Department of Housing and Urban Development, 451 7th Street SW., Room 4176, Washington, DC 20410-5000; telephone 202-402-5534 (this is not a toll-free number) or email at Anna.P.Guido@hud.gov for a copy of the proposed forms or other available information. Persons with hearing or speech impairments may access this number through TTY by calling the toll-free Federal Relay Service at (800) 877-8339.

FOR FURTHER INFORMATION CONTACT: Anna P. Guido, Reports Management Officer, QDAM, Department of Housing and Urban Development, 451 7th Street SW., Washington, DC 20410; email Anna P. Guido at Anna.P.Guido@hud.gov or telephone 202-402-5535. This is not a toll-free number. Persons with hearing or speech impairments may access this number through TTY by calling the toll-free Federal Relay Service at (800) 877-8339.

Copies of available documents submitted to OMB may be obtained from Ms. Guido.

SUPPLEMENTARY INFORMATION: This notice informs the public that HUD is seeking approval from OMB for the information collection described in Section A.

A. Overview of Information Collection

Title of Information Collection: Improving the Speed of Housing Recovery Program Launch after Severe Disaster.

OMB Approval Number: Pending.

Type of Request: New.

Form Number: No forms.

Description of the need for the information and proposed use: Since 1992, Congress has appropriated over $44 billion through HUD's Community Development Block Grant—Disaster Recovery (CDBG-DR) program to support long-term recovery in communities affected by Presidentially-declared disasters. This has included $19.7 billion for recovery from Hurricanes Katrina, Rita and Wilma in 2005, as well as $13 billion for recovery from Hurricane Sandy in 2012. These funds can be used for a wide variety of activities related to long-term recovery, including: Buyouts of homes in high-risk area; relocation or other compensation of affected households; rehabilitation/reconstruction of damaged homes; infrastructure and public improvements; demolition and debris removal; and economic development.

CDBG-DR funds are appropriated to HUD and then allocated to affected states and local governments. At that point, the grantees will be eager to move quickly, to develop programs to provide support to individuals and organizations that need it, and to begin recovery in earnest. But launching a disaster recovery program can be an enormous challenge. Some grantees have minimal previous experience with the base CDBG program. Even the more experienced grantees struggle with the scale of the challenge—both the level of need in the community and the amount of funds suddenly available for deployment. And there are, of course, many challenges unique to disaster recovery, that grantees may never have had to deal with before. All of these factors, and more, combine to hinder the recovery of disaster-affected communities. The purpose of this project is to examine factors that contribute to delays in launching housing recovery programs in the wake of severe disasters, and to produce a guidebook that will help to accelerate that process.

Conducting this research will require the research team (The Urban Institute, under HUD grant H-21670CA) to interview a variety of individuals with experience with disaster recovery, and the CDBG-DR program in particular.

Respondents (i.e., affected public): This information collection will affect approximately 60 individuals that have been involved in the design and management of CDBG-DR programs, particularly those related to housing recovery. Respondents are expected to be current or former employees of state and local governments that have received CDBG-DR funding, or current or former employees of private-sector entities that have supported those grantees. The study will focus on a purposive sample of CDBG-DR grantees, their selection based on the characteristics of the disaster and the grantee. This sample is expected to cover approximately 17 grantees: 12 grantees affected by 3 major disasters (4 grantees per disaster) and 5 grantees affected by smaller disasters (1 grantee per disaster). Once those grantees are selected, the research team will seek to interview an average of 4 individuals per major disaster grantee and 2 individuals per small disaster grantee (for a total of 58 respondents). Interview targets will include CDBG-DR program directors, CDBG-DR housing program managers, and other staff as needed. Interviews will be structured and will focus on important aspects of the period between the occurrence of the disaster and the completion of recovery activities, such as: program design decisions; hiring and training of staff; selection of contractors; and partnership with HUD and other recovery agencies. Interviews are expected to last an average of an hour and a half. The research team will conduct some interviews in person during site visits. The other interviews will be conducted by telephone.

All interviews will be confidential and not attributed to individuals by name or association. Interview results will be coded for analytical purposes and used to inform the study's two key deliverables: A retrospective report on factors that contribute to rapid disaster recovery and a guidebook to help disaster-affected communities recover more quickly.

The table below estimates the total burden to the public for the proposed information collection, assuming an hourly cost per response based on the GS-15 step 1 hourly wage rate.

Information collection | Number of respondents | Frequency of response | Responses per annum | Burden hour per response | Annual burden hours | Hourly cost per response | Annual cost
Interviews with Disaster Recovery staff | 58 | One time | 1 | 1.5 | 87 | $50 | $4,350
Total | 58 |  |  |  | 87 | 50 | 4,350

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond, including the use of appropriate automated collection techniques or other forms of information technology, e.g., permitting electronic submission of responses. HUD encourages interested parties to submit comment in response to these questions.

Authority: Section 3507 of the Paperwork Reduction Act of 1995, 44 U.S.C. Chapter 35.

Dated: October 25, 2016.
Katherine M. O'Regan,
Assistant Secretary for Policy Development and Research.

[FR Doc. 2016-26742 Filed 11-3-16; 8:45 am]

BILLING CODE 4210-67-P